DEPARTMENT OF LABOR

Mine Safety and Health Administration

Petitions for Modification

The following parties have filed petitions to modify the application of existing safety standards under section 101(c) of the Federal Mine Safety and Health Act of 1977.

1. Buck Mountain Coal Company

[Docket No. M-2002-062-C]

Buck Mountain Coal Company, PO Box 6, Tremont, Pennsylvania 17981 has filed a petition to modify the application of 30 CFR 75.1002-1 (Location of other electric equipment; requirements for permissibility) to its Buck Mountain Slope Mine (I.D. No. 36-01962) located in Schuylkill County, Pennsylvania. The petitioner requests a modification of the existing standard to permit the use of non-permissible electric equipment within 150 feet of the pillar line. The petitioner states that the non-permissible equipment would include drags and battery locomotives due in part to the method of mining used in pitching anthracite mines and the alternative evaluation of the mine air quality for methane on an hourly basis during operation. The petitioner asserts that the proposed alternative method would provide at least the same measure of protection as the existing standard.

2. Buck Mountain Coal Company

[Docket No. M-2002-063-C]

Buck Mountain Coal Company, PO Box 6, Tremont, Pennsylvania 17981 has filed a petition to modify the application of 30 CFR 75.1100-2(a) (Quantity and location of firefighting equipment) to its Buck Mountain Slope Mine (I.D. No. 36-01962) located in Schuylkill County, Pennsylvania. The petitioner requests a modification of the standard to permit use of only portable fire extinguishers to replace existing requirements where rock dust, water cars, and other water storage equipped with three (3) ten quart pails is not practical. The petitioner proposes to use two (2) fire extinguishers near the slope bottom and an additional portable fire extinguisher within 500 feet of the working face for equivalent fire protection for the Buck Mountain Slope Mine. The petitioner asserts that the proposed alternative method would provide at least the same measure of protection as the existing standard.

3. Buck Mountain Coal Company

[Docket No. M-2002-064-C]

Buck Mountain Coal Company, PO Box 6, Tremont, Pennsylvania 17981 has filed a petition to modify the application of 30 CFR 75.1200 (d) & (i) (Mine map) to its Buck Mountain Slope Mine (I.D. No. 36-01962) located in Schuylkill County, Pennsylvania. The petitioner proposes to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. The petitioner asserts that due to the steep pitch encountered in mining anthracite coal veins, contours provide no useful information and their presence would make portions of the map illegible. The petitioner further asserts that use of cross-sections in lieu of contour lines has been practiced since the late 1800's thereby providing critical information relative to the spacing between veins and proximity to other mine workings which fluctuate considerably. The petitioner asserts that the proposed alternative method would provide at least the same measure of protection as the existing standard.

4. Buck Mountain Coal Company

[Docket No. M-2002-065-C]

Buck Mountain Coal Company, PO Box 6, Tremont, Pennsylvania 17981 has filed a petition to modify the application of 30 CFR 75.1202 and 75.1202-1(a) (Temporary notations, revisions, and supplements) to its Buck Mountain Slope Mine (I.D. No. 36-01962) located in Schuylkill County, Pennsylvania. The petitioner proposes to revise and supplement mine maps annually instead of every 6 months as required, and to update maps daily by hand notations. The petitioner also proposes to conduct surveys prior to commencing retreat mining and whenever either a drilling program under 30 CFR 75.388 or plan for mining into inaccessible areas under 30 CFR 75.389 is required. The petitioner asserts that the proposed alternative method would provide at least the same measure of protection as the existing standard.

5. Energy West Mining Company

[Docket No. M-2002-066-C]

Energy West Mining Company, PO 310, Huntington, Utah 84528 has filed a petition to modify the application of 30 CFR 75.500(d) (Permissible electric equipment) to its Deer Creek Mine (I.D. No. 42-00121) located in Emery County, Utah. The petitioner proposes to use the following non-permissible equipment inby the last open crosscut: low-voltage or battery powered electronic testing and diagnostic equipment such as lap top computers, oscilloscopes, vibration analysis machines, cable fault detectors, point temperature probes, recording amp meters, thermal image devices, infrared temperature devices and recorders, pressure and flow measurement devices, signal analyzer devices, ultrasonic thickness gauges, electronic component testers, and electronic tachometers; low-voltage or battery powered equipment such as electric and/or battery operated drills and grinders; and other testing and diagnostic equipment if approved by the District Office. The petitioner states that equipment used in or inby the last open crosscut shall be examined by a qualified person on a weekly basis, and new equipment would be examined prior to use. The petitioner has listed in this petition specific procedures that would be followed when using this equipment. The petitioner asserts that the proposed alternative method would provide at least the same measure of protection as the existing standard.

6. Border Mining, Inc.

[Docket No. M-2002-067-C]

Border Mining, Inc., 7617 Upper Johns Creek Road, Phelps, Kentucky 41553 has filed a petition to modify the application of 30 CFR 75.503 (Permissible electric face equipment; maintenance) and 30 CFR 18.41(f) (Plug and receptacle-type connectors) to its No. 2 Mine (I.D. No. 15-17110) located in Knott County, Kentucky. The petitioner proposes to use permanently installed, spring-loaded locking devices to prevent battery plugs from unintentionally loosening from battery receptacles to eliminate the hazards associated with difficult removal of padlocks during emergency situations. The petitioner asserts that application of the existing standard would result in a diminution of safety to the miners, and that the proposed alternative method would provide at least the same measure of protection as the existing standard.

7. R & T Coal Company, Inc.

[Docket No. M-2002-068-C]

R & T Coal Company, Inc., 405 KY HWY 1092, Sitka, Kentucky 41255 has filed a petition to modify the application of 30 CFR 75.800 (High-voltage circuits; circuits breakers) to its Mine No. 1 (I.D. No. 15-18523) located in Morgan County, Kentucky. The petitioner proposes to use a Jennings RP-170-2300 high-voltage contactor in lieu of circuit breakers in its substation. The petitioner states that the Jennings RP-170-2300 is equivalent electrically and mechanically to high-voltage circuit breakers; that the substation has 12470 volts feed with 30 amp high-voltage fuses on the pole limiting the 4160 side to no more than 90 amps; that available vault current from Licking Valley Rural Electric is 924 amps line to ground and 1200 amps phase to phase; and that the Jennings contactor is more than capable of carrying the load. The petitioner asserts that the proposed alternative method would provide at least the same measure of protection as the existing standard.

8. Oxbow Mining, LLC

[Docket No. M-2002-069-C]

Oxbow Mining, LLC, PO Box 535, 3737 Highway 133, Somerset, Colorado 81434 has filed a petition to modify the application of 30 CFR 75.350 (Air course and belt haulage entries) to its Elk Creek Mine (I.D. No. 05-04674) located in Gunnison County, Colorado. The petitioner requests a modification of the existing safety standard to permit air coursed through the conveyor belt haulage entries to be used to ventilate working places. The petitioner proposes to install a carbon monoxide monitoring system as an early warning fire detection system in all belt entries used to course intake air to a working place. The petitioner asserts that the proposed alternative method would provide at least the same measure of protection as the existing standard.

9. Energy West Mining Company

[Docket No. M-2002-070-C]

Energy West Mining Company, PO Box 310, Huntington, Utah 84528 has filed a petition to modify the application of 30 CFR 75.1002-1(a) (Location of other electric equipment; requirements for permissibility) to its Deer Creek Mine (I.D. No. 42-00121) located in Emery County, Utah. The petitioner requests a modification of the existing standard to permit the following non-permissible equipment to be used within 150 feet from pillar workings (longwall gob): lap top computers, oscilloscopes, vibration analysis machines, cable fault detectors, point temperature probes, recording amp meters, thermal image devices, infrared temperature devices and recorders, pressure and flow measurement devices, signal analyzer devices, ultrasonic thickness gauges, electronic component testers, and electronic tachometers, low-voltage or battery powered equipment such as electric and/or battery operated drills and grinders, and may use other testing and diagnostic equipment if approved by the District Office. The petitioner states that equipment used in or inby the last open crosscut shall be examined by a qualified person on a weekly basis, and that new equipment would be examined prior to use. The petitioner has listed in this petition for modification specific procedures that would be followed when using this equipment. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 1100 Wilson Boulevard, Room 2352, Arlington, Virginia 22209. All comments must be postmarked or received in that office on or before September 23, 2002. Copies of these petitions are available for inspection at that address.

Dated at Arlington, Virginia this 19th day of August 2002.
Marvin W. Nichols, Jr.,
Director, Office of Standards, Regulations, and Variances.

[FR Doc. 02-21566 Filed 8-22-02; 8:45 am]

BILLING CODE 4510-43-P